ENVIRONMENTAL PROTECTION AGENCY

[EPA-HQ-OAR-2017-0430; FRL-XXXX]

Notice of Proposed Radon Credentialing Criteria; Extension of the Comment Period

AGENCY: Environmental Protection Agency, Office of Radiation and Indoor Air.

ACTION: Notice of availability; extension of the comment period.

SUMMARY: The Environmental Protection Agency (EPA) is announcing an extension of the public comment period by 30 days for the Notice of Proposed Radon Credentialing Criteria.

DATES: The comment period for the Notice of Proposed Radon Credentialing Criteria (88 FR 17215), is extended. Comments must be received on or before June 21, 2023.

ADDRESSES: You may send comments, identified by Docket ID No. EPA-HQ-OAR-2017-0430 by any of the following methods:

• Federal eRulemaking Portal: https://www.regulations.gov (our preferred method). Follow the online instructions for submitting comments.

• Email: a-and-r-Docket@epa.gov. Include Docket ID No. EPA-HQ-OAR-2017-0430 in the subject line of the message.

• U.S. Postal Service Mail: U.S. Environmental Protection Agency, EPA Docket Center, Air and Radiation Docket, Mail Code 28221T, 1200 Pennsylvania Avenue NW, Washington, DC 20460.

• Hand Delivery/Courier: EPA Docket Center, WJC West Building, Room 3334, 1301 Constitution Avenue NW, Washington, DC 20004. The Docket Center's hours of operations are 8:30 a.m.-4:30 p.m., Monday-Friday (except Federal Holidays).

Instructions: All submissions received must include the Docket ID No. EPA-HQ-OAR-2017-0430. Comments received may be posted without change to https://www.regulations.gov/, including any personal information provided. For detailed instructions on sending comments, see the SUPPLEMENTARY INFORMATION section of this document.

FOR FURTHER INFORMATION CONTACT: Katrin Kral, Indoor Environments Division, Office of Radiation and Indoor Air 6609T, Environmental Protection Agency, 1200 Pennsylvania Avenue NW, Washington, DC 20460; 202-343-9454; kral.katrin@epa.gov.

SUPPLEMENTARY INFORMATION: The EPA published the Notice of Proposed Radon Credentialing Criteria on March 22, 2023, in the Federal Register (88 FR 17215), which included a request for comments and key questions, on or before May 22, 2023, on The Proposed Radon Credentialing Criteria document (available in the docket). The purpose of this Notice is to extend the public comment period.

Submit your comments, identified by Docket ID No. EPA-HQ-OAR-2017-0430, at https://www.regulations.gov (our preferred method), or the other methods identified in the ADDRESSES section.

A. What should I consider as I prepare my comments for the EPA?

Once submitted, comments cannot be edited or removed from the docket. The EPA may publish any comment received to its public docket. Do not submit electronically any information you consider to be Confidential Business Information (CBI) or other information whose disclosure is restricted by statute. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

1. Tips for Preparing Your Comments. When submitting comments, remember to:

• Identify the notice by docket number, subject heading, Federal Register date, and page number.

• Provide a brief description of yourself and your role or organization before addressing the questions.

• Identify the question(s) you are responding to from the KEY QUESTIONS section by question number when submitting your comments. You do not need to address every question.

• Explain why you agree or disagree; suggest alternatives and substitute language for your requested changes.

• Describe any assumptions and provide any technical information and/or data that you used.

• If you estimate potential costs or burdens, explain how you arrived at your estimate in sufficient detail to allow it to be reproduced.

• Illustrate your concerns with specific examples and suggest alternatives.

• Explain your views as clearly as possible, avoiding the use of profanity or personal threats.

• Make sure to submit your comments by the comment period deadline identified.

B. How can I learn more about this?

The EPA has established a docket for this action under Docket ID No. EPA-HQ-OAR-2017-0430 that includes the Proposed Radon Credentialing Criteria document, which is the subject of this notice. Please refer to the original Federal Register for information about this proposed action and a list of key questions on which the Agency is seeking feedback.

The EPA hosted a public information session on April 12, 2023. To access a recording of the session, accompanying slides and a Questions and Answers document, visit EPA's radon website at https://www.epa.gov/radon/epas-draft-criteria-radon-credentialing-organizations. The information session covered the EPA's role in overseeing the quality of radon service providers as well as conformity assessment and application of voluntary consensus standards within federal programs, including the proposed criteria.

We are extending the public comment period through June 21, 2023. This action will provide the public additional time to provide comments.

Jonathan D. Edwards,
Director, Office of Radiation and Indoor Air.

[FR Doc. 2023-10378 Filed 5-15-23; 8:45 am]

BILLING CODE 6560-50-P